DEPARTMENT OF JUSTICE

Notice of Lodging of Consent Decree Pursuant to 28 U.S.C. 50.7

Notice is hereby given that on August 17, 2000, the United States lodged a proposed Consent Decree with the United States District Court for the Southern District of Texas, Houston Division, in United States v. Amoco Pipeline Company, Inc., Civ. A. No. H-00-2847. The proposed Consent Decree resolves civil claims of the United States under Section 311 of the Clean Water Act, 33 U.S.C. 1321, as amended by the Oil Pollution Act of 1990, against Amoco Pipeline Company, Inc. Under the proposed Consent Decree, Amoco agrees to pay a civil penalty of one million forty-three thousand dollars ($1,043,000.00), and to reimburse the Oil Spill Liability Trust Fund seven thousand dollars ($7,000.00) for EPA oversight costs. Amoco further agrees to install a spill alarm system at its Genoa Junction meter station in Houston, Texas at an approximate cost of thirty thousand dollars ($30,000.00). As part of the settlement, Amoco also agrees to hold harmless the Oil Spill Liability Trust Fund against any third-party claims arising out of the November 10, 1997 spill of crude oil at its Genoa Junction metering station.

The Department of Justice will receive comments relating to the proposed Consent Decree for 30 days following publication of this Notice. Comments should be addressed to the Assistant Attorney General, Environment and Natural Resources Division, United States Department of Justice, P.O. Box 7611, Ben Franklin Station, Washington, DC 20044-7611, and should refer to United States v. Amoco Pipeline Company, Inc., DOJ No. 90-5-1-1-06365. The proposed Consent Decree may be examined at the Office of the United States Attorney for the Southern District of Texas, Houston, Texas, and the Region VI Office of the United States Environmental Protection Agency, 1445 Ross Avenue, Dallas, Texas 75202. A copy of the proposed Consent Decree may be obtained by mail from the Department of Justice Consent Decree Library, P.O. Box 7611, Washington, DC 20044. In requesting a copy, please enclose a check for reproduction costs (at 25 cents per page) in the amount of $4.00 for the Decree, payable to the Consent Decree Library.

Bruce S. Gelber,
Deputy Chief, Environmental Enforcement Section, Environment and Natural Resources Division.

[FR Doc. 00-22136 Filed 8-29-00; 8:45 am]

BILLING CODE 4410-15-M